DEPARTMENT OF THE INTERIOR

Bureau of Land Management

DEPARTMENT OF AGRICULTURE

Forest Service

[UT-070-1320-EL; UTU-84102]

Notice of Intent To Prepare an Environmental Impact Statement and To Conduct Public Scoping on the Greens Hollow Coal Lease Tract

AGENCY: Bureau of Land Management, USDI, and Forest Service, USDA.

ACTION: Notice of Intent to prepare an environmental impact statement (EIS) and to initiate public scoping for the Greens Hollow Coal Lease Tract Lease by Application (LBA) filed by Ark Land Company, a subsidiary of Arch Coal, Inc. in Sanpete and Sevier Counties, Utah.

SUMMARY: Pursuant to Section 102 (2) (C) of the National Environmental Policy Act (NEPA) of 1969, the Bureau of Land Management (BLM), Price Field Office, and the Manti-La Sal and Fishlake National Forests announce their intent to prepare an EIS and are soliciting public comments regarding issues and resource information on the potential impacts of a proposal to mine Federal coal, using underground methods with limited surface facilities, in the vicinity of Greens Hollow, Utah as requested by Ark Land Company in LBA case number UTU-84102 and in conformance with the provisions of 43 Code of Federal Regulations (CFR) 3425.1.

DATES: This notice initiates the public scoping process. Comments concerning the scope of the analysis must be received within 45 days of publication in the Federal Register. The draft EIS is expected in June of 2008 and the final EIS is expected in November of 2008.

ADDRESSES: Send written comments to Bureau of Land Management, Attn: Steve Rigby, Price Field Office, 125 South 600 West, Price, Utah 84501. Written comments may also be hand-delivered to the Price Field Office or sent by facsimile to 435-636-3657. Comments may be sent electronically to UT_Pr_Comments2@blm.gov (please reference Greens Hollow Coal Lease Tract EIS in the subject field).

FOR FURTHER INFORMATION CONTACT: Steve Rigby, Project Manager, BLM Price Field Office, 125 South 600 West, Price, Utah 84501 or phone 435-636-3604.

SUPPLEMENTARY INFORMATION: The proposed Greens Hollow coal lease tract is located on the Manti-La Sal and Fishlake National Forests on the southern end of the Wasatch Plateau, Wasatch Plateau coal field, in the Wasatch Plateau Known Recoverable Coal Resource Area (KRCRA). The surface and coal resources are both federally owned. The Manti-La Sal and Fishlake National Forests administer the surface resources, while the BLM administers the subsurface coal resources.

The Greens Hollow coal lease tract is located in the Muddy Creek and North Fork Quitchupah Creek drainages. The area is approximately 10.5 air miles west of the town of Emery, Utah or 5 miles north of the SUFCO mine portal in Convulsion Canyon. The final coal lease tract, as amended by the Tract Delineation Team, encompasses 6,334 acres of Federal coal estate. Most of the proposed lease is on the Manti-La Sal National Forest (approximately 6,253 acres), while a small part along the southern edge of the tract is on the Fishlake National Forest (approximately 81 acres). A map of the proposed lease tract is available at http://cq.blm.gov/author/ut/en/fo/price/energy/Coal.html.

Coal reserves in the Greens Hollow coal lease tract are estimated at 73 million minable tons of coal. Ark Land Company has applied to the BLM to lease the coal reserves to increase the production life of their existing SUFCO Mine complex. The tract lies immediately adjacent to and north and west of the existing SUFCO Mine. If Ark Land Company obtains the tract, it would be mined by long-wall methods through underground workings in their existing permit area. Existing portal facilities in the SUFCO mine complex would be used. New surface facilities would include two new vent shafts, a power line to one of the shafts, and exploratory drill holes. The analysis of impacts will be prepared assuming mining would be done through the SUFCO mine. Because the lease offering would be by competitive bid, if a company other than Ark Land were the successful bidder, the adequacy of the EIS would be re-evaluated to determine if it could be used as the basis for mining plan approval.

The Greens Hollow EIS will be consistent with the Manti-La Sal and Fishlake National Forests Land and Resource Management Plans (Forest Plans). The Forest Plans provide the overall guidance (Goals, Objectives, Standards, and Management Area Direction) to achieve the Desired Future Condition for the area being analyzed, and contain specific management area prescriptions for each Forest. The proposed lease tract is in a management area that is available for further consideration for coal leasing. The Forest Service and BLM have determined that data are available to meet the Data Adequacy Standards for Federal Coal Leasing, Uinta-Southwestern Utah Coal Region.

The Greens Hollow coal tract falls within the Muddy Creek coal tract and a 2-mile buffer, for which three years of field data were collected and a technical analysis of potential effects to resources present in the tract were completed in anticipation of a mining proposal. In 2004 the Forest Service initiated the preparation of an EIS for the Muddy Creek tract. Public scoping was conducted from March 5, 2004 through April 12, 2004 and a total of 10 responses were received. Based on the scoping comments and internal agency review, four resources were identified for detailed analysis in the Muddy Creek EIS: water resources, wildlife and wildlife habitat, vegetation, and cultural/paleontological resources. Previously collected data will be reviewed and updated to ensure the data remain valid for the Greens Hollow analysis.

Purpose and Need for Action

The purpose of the Proposed Action is to provide appropriate opportunities for leasing and development of Federal coal resources (USDA-FS 1986) under the Manti-La Sal and Fishlake National Forests, and to make cleared tracts available for leasing, subject to the mitigation requirements determined through multiple-use management and environmental review.

Ark Land Company, as the lease applicant, has expressed the need to obtain rights to additional minable coal in order to extend the life of the SUFCO Mine by approximately 10 years, maintain production, remain competitive in the current coal market, and to maintain current coal contracts.

Proposed Action

The proposed action would offer the Greens Hollow Coal Lease Tract for competitive leasing. Technical data and analysis would be reviewed to determine if lease stipulations would be needed to protect non-mineral resources consistent with BLM and Forest Service policies and Forest Plan Standards/Guidelines and Objectives.

Possible Alternatives

All of the alternatives and options may not be known until after data collection and completion of the analysis. However, the EIS would likely consider the following alternatives.

Alternative 1 (No Action)—The no action alternative will provide a baseline for evaluating the effects of the action alternatives. Under this alternative the lease tract would not be offered for leasing at this time and there would be no mining within the tract.

Alternative 2—Under this alternative, the tract would be offered for competitive leasing, as delineated by the Tract Delineation Team, with BLM standard lease terms and conditions only. No special coal lease stipulations would be included in the lease to be offered.

Alternative 3—Under this alternative, the tract would be offered for competitive leasing, as delineated, with BLM standard lease terms and conditions and special stipulations to protect non-mineral resources and uses.

Other Action Alternatives—Other alternatives may be developed, as needed, to address social and environmental issues or opportunities.

Lead and Cooperating Agencies

The Bureau of Land Management, Price Field Office, and the Forest Service, Manti-La Sal and Fishlake National Forests, will be joint lead agencies for this project. The Office of Surface Mining (OSM) will participate as a cooperating agency.

Responsible Official

The responsible official for the Bureau of Land Management is Selma Sierra, Utah State Director, Bureau of Land Management, 440 West 200 South, Suite 500, Salt Lake City, Utah 84145-0155. The responsible officials for the Forest Service are Howard Sargent, Forest Supervisor, Manti-La Sal National Forest, 599 W. Price River Drive, Price, Utah 84501, and Mary Erickson, Forest Supervisor, Fishlake National Forest, 115 East 900 North, Richfield, Utah 84701.

Nature of Decision To Be Made

In accordance with the Mineral Leasing Act of 1920, as amended, the Utah State Director of the BLM will decide whether or not to offer the tract for competitive leasing and under what terms, conditions, and stipulations.

In accordance with the Coal Leasing Amendments Act of 1975, which amended the Mineral Leasing Act of 1920, the Forest Supervisors, Manti-La Sal and Fishlake National Forests, will decide whether or not to consent to leasing by the Bureau of Land Management. If they consent to leasing, they will identify special coal lease stipulations needed to protect non-mineral resources.

Scoping Process

This notice of intent in the Federal Register initiates the scoping process for the Greens Hollow Coal Lease Tract Environmental Impact Statement. Agency and public scoping comments guide the development of the EIS. It is important that those interested in this proposed action participate at this time. Scoping notification is also given in the Sun Advocate and Richfield Reaper, the newspapers of record. In addition, a public notice will be published in the Emery County Progress and the Salina Sun and mailed to potentially interested parties. Interested parties are invited to submit comments as outlined above. To be most helpful, your comments should be as specific as possible.

The lead agencies are seeking information and comments from Federal, State, and local agencies as well as individuals and organizations that may be interested in, or affected by, the proposed action. The BLM and Forest Service invite written comments and suggestions on issues related to the proposal and the area being analyzed. Information received will be used in preparation of the draft EIS and final EIS. No public meetings are currently planned.

Comments, including names and addresses of respondents, will be available for public review at the BLM Price Field Office, and will be subject to disclosure under the Freedom of Information Act (FOIA). Before including your address, phone number, e-mail address, or other personal identifying information in your comment, you should be aware that your entire comment—including your personal identifying information—may be made publicly available at any time. While you can ask in your comment to withhold your personal identifying information from public review, we cannot guarantee that we will be able to do so. All submissions from organizations and businesses, or from individuals identifying themselves as representatives or officials of organizations or businesses, will be available for public inspection in their entirety.

A draft EIS will be prepared for public review and comment. The comment period on the draft EIS will be 45 days from the date the Environmental Protection Agency publishes the notice of availability in the Federal Register. It is very important that those interested in this proposed action participate by the close of the 45-day comment period so that substantive comments and objections are made available to the Bureau of Land Management at a time when it can meaningfully consider them and respond to them in the final EIS.

To assist the agencies in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

The lead agencies believe, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or disregarded by the courts. City of Angoon v. Hodel, 803 F.2d 1016, 1022 (9th Cir. 1986); and Wisconsin Heritages, Inc. v. Harris, 490 F. Supp. 1334, 1338 (E.D. Wis. 1980).

(Authority: 40 CFR 1501.7 and 1508.22; Forest Service Handbook 1909.15, Section 21; BLM/DOI NEPA Handbook 516 DM).

Preliminary Issues

Issues and alternatives to be evaluated in the analysis for the Greens Hollow coal lease tract will be determined through public scoping. The major issues are expected to include water resources, wildlife and wildlife habitat, vegetation, cultural/paleontological resources, employment in the local area, and economic viability of the local and regional areas.

Permits or Licenses Required

The operator must obtain a permit from the Secretary of the Interior prior to commencing mining, contingent upon review and acceptance of the mining and reclamation plan in accordance with Surface Mining Control and Reclamation Act of 1977 (SMCRA) and the requirements of 30 CFR 700 to end.

Dated: January 29, 2008.
Selma Sierra,
Utah State Director, BLM.
Dated: January 29, 2008.
Howard Sargent,
Forest Supervisor, Manti-La Sal National Forest.

[FR Doc. E8-2557 Filed 2-11-08; 8:45 am]

BILLING CODE 3410-11-P